DEPARTMENT OF TRANSPORTATION

Federal Aviation Administration

14 CFR Part 71

[Docket No. FAA-2021-0176; Airspace Docket No. 21-ACE-8]

RIN 2120-AA66

Amendment of Class D and Class E Airspace; Sioux City, IA

AGENCY: Federal Aviation Administration (FAA), DOT.

ACTION: Final rule; correction.

SUMMARY: This action corrects the final rule published in the Federal Register on June 11, 2021, amending the Class D and Class E airspace at Sioux Gateway Airport/Brigadier General Bud Day Field, Sioux City, IA. The geographic coordinates for Sioux Gateway Airport/Brigadier General Bud Day Field were incorrectly published as “(Lat. 42°24′09″ N, long. 96°23′05″ W)” vice “(Lat. 42°24′05″ N, long. 96°23′04″ W)” in the Class D and Class E airspace legal descriptions.

DATES: Effective date 0901 UTC, August 12, 2021. The Director of the Federal Register approves this incorporation by reference action under Title 1 Code of Federal Regulations part 51, subject to the annual revision of FAA Order 7400.11 and publication of conforming amendments.

ADDRESSES: FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Jeffrey Claypool, Federal Aviation Administration, Operations Support Group, Central Service Center, 10101 Hillwood Parkway, Fort Worth, TX 76177; telephone (817) 222-5711.

SUPPLEMENTARY INFORMATION:

History

The FAA published a final rule in the Federal Register (86 FR 31105; June 11, 2021) for Docket No. FAA-2021-0176 amending the Class D and Class E airspace at Sioux Gateway Airport/Brigadier General Bud Day Field, Sioux City, IA. Subsequent to publication, the FAA identified the geographic coordinates for Sioux Gateway Airport/Brigadier General Bud Day Field were incorrectly published as “(Lat. 42°24′09″ N, long. 96°23′05″ W)” vice “(Lat. 42°24′05″ N, long. 96°23′04″ W)” in the Class D and Class E airspace legal descriptions. This action corrects that error.

Class D and Class E airspace designations are published in paragraph 5000, 6002, and 6005, respectively, of FAA Order 7400.11E dated July 21, 2020, and effective September 15, 2020, which is incorporated by reference in 14 CFR 71.1. The Class D and Class E airspace designations listed in this document will be subsequently published in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

Correction to Final Rule

Accordingly, pursuant to the authority delegated to me, Amendment of Class D and Class E Airspace; Sioux City, IA, published in the Federal Register of June 11, 2021 (86 FR 31105), Docket No. FAA-2021-0176, is corrected as follows:

71.1 [Corrected]

On page 31107, column 1, line 37, replace “(lat. 42°24′09″N., long. 96°23′05″W.)” with “(Lat. 42°24′05″ N, long. 96°23′04″ W)”.

On page 31107, column 1, line 63, replace “(lat. 42°24′09″N., long. 96°23′05″W.)” with “(Lat. 42°24′05″ N, long. 96°23′04″ W)”.

On page 31107, column 2, line 25, replace “(lat. 42°24′09″N., long. 96°23′05″W.)” with “(Lat. 42°24′05″ N, long. 96°23′04″ W)”.

Issued in Fort Worth, Texas, on July 12, 2021.
Martin A. Skinner,
Acting Manager, Operations Support Group, ATO Central Service Center.

[FR Doc. 2021-15040 Filed 7-15-21; 8:45 am]

BILLING CODE 4910-13-P